DEPARTMENT OF COMMERCE

National Oceanic and Atmospheric Administration

RIN 0649-XF088

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one and a half day meeting of its Standing, Reef Fish, Coastal Migratory Pelagics (CMP) and Socioeconomics Scientific and Statistical Committees (SSC).

DATES: The meeting will convene on Tuesday, January 10, 2017, from 1 p.m. to 5 p.m. and Wednesday, January 11, 2017, from 8:30 a.m. to 5 p.m., EDT.

ADDRESSES: The meeting will be held at the Mayfair Hotel, located at 3000 Florida Avenue, Coconut Grove, Miami, FL 33133; telephone: (305) 441-0000.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Tuesday, January 10, 2017; 1 p.m. to 5 p.m. and Wednesday, January 11, 2017; 8:30 a.m. to 5 p.m.

I. Introductions and Adoption of Agenda

II. Approval Minutes

a. Sept. 20-21, 2016 Standing, Reef Fish, Mackerel and Shrimp meeting summary

b. Sept. 20-21, 2016 Standing, Reef Fish, Mackerel and Shrimp verbatim minutes

c. Nov. 22, 2016 Standing and Reef Fish webinar summary

III. Selection of SSC representative at January 30-February 2 Council meeting

IV. Review of Updated National Standard Guidelines (webinar)

Mackerel SSC Session

V. Gulf migratory group king mackerel updated OFL and ABC yield streams for 2017/18 to 2019/20

Reef Fish SSC Session

VI. SEDAR 49 Data-limited Species Assessment, Part 1

a. Introduction and discussion of management framework (no final results until March)

VII. Gag Update Assessment

VIII. Mechanism for Allowing Carryover of Quota Underharvest

a. SEFSC analysis of carryover levels

IX. Analysis of time for stocks to recover from MSST under different life history characteristics

Socioeconomic SSC Session

X. Discussion on economic and social implications of catch limits

a. Discussion of catch limits with respect to National Standard 5

b. Discussion of catch limits with respect to National Standard 8

Other Items

XI. Dates for future SSC meetings

— Meeting Adjourns —

The meeting will be broadcast via webinar. You may register for SSC Meeting: Standing, Reef Fish, Mackerel and Socioeconomic on January 10-11, 2017 at: https://attendee.gotowebinar.com/register/3383291116212545537

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2017-01”.

The meeting will be webcast over the Internet. A link to the webcast will be available on the Council's Web site, http://www.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: December 14, 2016.
Tracey L. Thompson,
Acting Deputy Director, Office of Sustainable Fisheries, National Marine Fisheries Service.

[FR Doc. 2016-30484 Filed 12-16-16; 8:45 am]

BILLING CODE 3510-22-P